DEPARTMENT OF TRANSPORTATION

Federal Aviation Administration

14 CFR Part 39

[Docket No. 2002-NM-208-AD; Amendment 39-13689; AD 2004-13-07]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to all BAE Systems (Operations) Limited (Jetstream) Model 4101 airplanes. This AD requires operators to determine the flight cycles accumulated on each component of the main landing gear (MLG) and the nose landing gear (NLG), and to replace each component that reaches its life limit with a serviceable component. This AD also requires operators to revise the Airworthiness Limitations section of the Instructions for Continued Airworthiness in the aircraft maintenance manual to reflect the new life limits. This action is necessary to prevent failure of certain components of the MLG and the NLG, which could result in failure of either or both landing gears, and consequent damage to the airplane and injury to passengers or crewmembers. This action is intended to address the identified unsafe condition.

DATES: Effective August 3, 2004.

The incorporation by reference of certain publications listed in the regulations is approved by the Director of the Federal Register as of August 3, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited (Jetstream) Model 4101 airplanes was published in the Federal Register on March 5, 2004 (69 FR 10385). That action proposed to require operators to determine the flight cycles accumulated on each component of the main landing gear and the nose landing gear, and to replace each component that reaches its life limit with a serviceable component. That action also proposed to require operators to revise the Airworthiness Limitations section of the Instructions for Continued Airworthiness to reflect the new life limits.

Comments

Interested persons have been afforded an opportunity to participate in the making of this amendment. No comments were submitted in response to the proposal or the FAA's determination of the cost to the public.

Conclusion

We have determined that air safety and the public interest require the adoption of the rule as proposed.

Explanation of Change Made to the Proposed Rule

We have revised paragraph (a) the final rule to include BAE Systems (Operations) Limited Service Bulletin J41-05-001, Revision 3, dated January 9, 2004, as an additional appropriate source of service information for calculating the total accumulated flight cycles. In addition, we have revised paragraph (f) of the final rule to give operators credit for accomplishing the same calculation per two earlier revisions of Service Bulletin J41-05-001: Revision 1, dated April 10, 2001, Revision 2, dated March 15, 2002.

Cost Impact

We estimate that 57 airplanes of U.S. registry will be affected by this AD. It will take approximately 1 work hour per airplane to accomplish the required determination of the number of flight cycles, and 1 work hour per airplane to accomplish the required revision of the aircraft maintenance manual. The average labor rate is $65 per work hour. Based on these figures, the cost impact of the AD on U.S. operators is estimated to be $7,410, or $130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-13-07 BAE Systems (Operations) Limited (Formerly British Aerospace Regional Aircraft): Amendment 39-13689. Docket 2002-NM-208-AD.

Applicability: All Model Jetstream 4101 airplanes, certificated in any category.

Compliance: Required as indicated, unless accomplished previously.

To prevent failure of certain components of the main landing gear and the nose landing gear, which could result in failure of either or both landing gears, and consequent damage to the airplane and injury to passengers or crewmembers, accomplish the following:

Determine Flight Cycles for Components

(a) Within 90 days after the effective date of this AD: Determine the number of flight cycles accumulated on each landing gear component listed in Table 1 and Table 2 of the Accomplishment Instructions of BAE Systems (Operations) Limited Service Bulletin J41-32-078, dated April 12, 2002. If there are no records or incomplete records for any component, establish the number of flight cycles in accordance with the Accomplishment Instructions of BAE Systems (Operations) Limited Service Bulletin J41-05-001, Revision 2, dated March 15, 2002; or Revision 3, dated January 1, 2004.

Note 1: BAE Systems (Operations) Limited Service Bulletin, J41-32-078 refers to BAE Systems (Operations) J41 Service Information Leaflet 32-15, Issue 1, dated February 15, 2002, as an additional source of service information for establishing the life limits of landing gear components and for tracking the accumulated life of each component.

Replace Components

(b) Except as provided by paragraph (c) of this AD, within 60 days after establishing the flight cycles per paragraph (a) of this AD: Replace any landing gear component that has reached the life limit determined by paragraph (a) of this AD, with a serviceable component per a method approved by either the Manager, International Branch, ANM-116, Transport Airplane Directorate, FAA; or the CAA Civil Aviation Authority (CAA) (or its delegated agent). Doing the actions in chapter 32 of the applicable aircraft maintenance manual (AMM) is one approved method. Thereafter, replace any component that reaches its life limit prior to the accumulation of the applicable number of flight cycles shown in Table 1 and Table 2 of the Accomplishment Instructions of BAE Systems (Operations) Limited Service Bulletin J41-32-078, dated April 12, 2002.

(c) Any component for which the total accumulated life cycles has not been established, or that has exceeded its life limit, but has not yet been replaced per paragraph (b) of this AD, must be replaced within 72 months after the effective date of this AD, in accordance with BAE Systems (Operations) Limited Service Bulletin J41-32-078, dated April 12, 2002.

Revise Aircraft Maintenance Manual

(d) Within 30 days after the effective date of this AD: Revise the Airworthiness Limitations section of the Instructions for Continued Airworthiness of the Jetstream 4100 AMM to include the life limits of the components listed in Table 1 and Table 2 of the Accomplishment Instructions of BAE Systems (Operations) Limited Service Bulletin J41-32-078, dated April 12, 2002. This may be accomplished by inserting a copy of the service bulletin in the Airworthiness Limitations section of the Instructions for Continued Airworthiness until such time as a revision is issued. Thereafter, except as provided in paragraph (g) of this AD, no alternative replacement times may be approved for any affected component.

Parts Installation

(e) As of the effective date of this AD, no landing gear unit may be installed on any airplane unless the accumulated flight cycles of all components of that landing gear have been established per paragraph (a) of this AD, and any component that has exceeded its life limit has been replaced per paragraph (b) of this AD.

Actions Accomplished Per Previous Issue of Service Bulletin

(f) Calculations of total accumulated flight cycles accomplished per BAE Systems (Operations) Limited Service Bulletin J41-05-001, Revision 1, dated April 10, 2001; or BAE Systems (Operations) Limited Service Bulletin J41-05-001, Revision 2, dated March 15, 2002; are considered acceptable for compliance with the corresponding action specified in this AD.

Alternative Methods of Compliance

(g) In accordance with 14 CFR 39.19, the Manager, International Branch, ANM-116, FAA, Transport Airplane Directorate, is authorized to approve alternative methods of compliance for this AD.

Incorporation by Reference

(h) Unless otherwise specified in this AD, the actions shall be done in accordance with BAE Systems (Operations) Limited Service Bulletin J41-05-001, Revision 2, dated March 15, 2002, or BAE Systems (Operations) Limited Service Bulletin J41-05-001, Revision 3, dated January 9, 2004; and BAE Systems (Operations) Limited Service Bulletin J41-32-078, dated April 12, 2002; as applicable. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in British airworthiness directive 007-04-2002.

Effective Date

(i) This amendment becomes effective on August 3, 2004.

Issued in Renton, Washington, on June 16, 2004.
Ali Bahrami,
Acting Manager, Transport Airplane Directorate, Aircraft Certification Service.

[FR Doc. 04-14320 Filed 6-28-04; 8:45 am]

BILLING CODE 4910-13-P